DEPARTMENT OF ENERGY

Federal Energy Regulatory Commission

[Project No. 8615-024]

Consolidated Water Power Company; Notice of Availability of Environmental Assessment

May 13, 2004.

In accordance with the National Environmental Policy Act of 1969 and the Federal Energy Regulatory Commission's (Commission) regulations, 18 CFR part 380 (Order No. 486, 52 FR 47897), the Office of Energy Projects has prepared an Environmental Assessment (EA) for an application requesting Commission approval of license surrender and dam removal for the Fiske Mill Hydroelectric Project. The project is located on the Ashuelot River in the town of Hinsdale, Cheshire County, New Hampshire.

The EA contains the staff's analysis of the potential environmental impacts of the project and concludes that the surrender of project license and dam removal would not constitute a major federal action that would significantly affect the quality of the human environment.

A copy of the EA is available for review and reproduction at the Commission's Public Reference Room, located at 888 First Street, NE., Room 2A, Washington, DC 20426. The EA may also be viewed on the Commission's Web site at http://www.ferc.gov using the “eLibrary” link. Enter the docket number (prefaced by P-) in the docket number field to access the document. For assistance, contact FERC On-Line Support at FERCOnlineSupport@ferc.gov or call toll free at (866) 208-3676, or for TTY contact (202) 502-8659.

Any comments should be filed by June 14, 2004, and should be addressed to Magalie R. Salas, Secretary, Federal Energy Regulatory Commission, 888 First Street, NE., Washington, DC 20426. Please affix “Fiske Mill Project No. 8615-024,” to all comments. For further information, please contact Andrea Shriver at (202) 502-8171, or andrea.shriver@ferc.gov.

Comments may be filled electronically via the Internet in lieu of paper. See 18 CFR 385.2001 (a)(1)(iii) and the instructions on the Commission's Web site at http://www.ferc.gov under the “e-filing” link. The Commission strongly encourages electronic filings.

Magalie R. Salas,
Secretary.

[FR Doc. E4-1192 Filed 5-20-04; 8:45 am]

BILLING CODE 6717-01-P